DEPARTMENT OF TRANSPORTATION

Federal Aviation Administration

14 CFR Part 39

[Docket No. FAA-2012-1321; Directorate Identifier 2011-NM-147-AD; Amendment 39-17528; AD 2013-15-12]

RIN 2120-AA64

Airworthiness Directives; Airbus Airplanes

AGENCY: Federal Aviation Administration (FAA), Department of Transportation (DOT).

ACTION: Final rule.

SUMMARY: We are superseding airworthiness directive (AD) 2004-15-07, for certain Airbus Model A310 series airplanes. AD 2004-15-07 required repetitive inspections for fatigue cracking of the area around the fasteners of the landing plate of the aileron access doors of the bottom skin panel of the wings, and related corrective action. AD 2004-15-07 also provided for an optional terminating action to end the repetitive inspections. This new AD reduces the initial inspection compliance time and intervals, and provides additional terminating action options. This AD was prompted by a reassessment of a previous fatigue threshold and inspection interval, which resulted in a determination that reduced inspection thresholds and intervals for accomplishment of the tasks are necessary. We are issuing this AD to detect and correct fatigue cracking of the area around the fasteners of the landing plate of the aileron access doors and the bottom skin panel of the wings, which could result in reduced structural integrity of the wings.

DATES: This AD becomes effective September 20, 2013.

The Director of the Federal Registe approved the incorporation by reference of certain publications listed in this AD as of September 20, 2013.

The Director of the Federal Register approved the incorporation by reference of certain other publications listed in this AD as of August 31, 2004 (69 FR 44592, July 27, 2004).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to include an AD that would apply to the specified products. The NPRM was published in the Federal Register on February 5, 2013 (78 FR 8054), and proposed to supersede AD 2004-15-07, Amendment 39-13741 (69 FR 44592, July 27, 2004). The NPRM proposed to correct an unsafe condition for the specified products. The European Aviation Safety Agency (EASA), which is the Technical Agent for the Member States of the European Community, has issued EASA Airworthiness Directive 2011-0125, dated June 30, 2011 (referred to after this as “the MCAI”), to correct an unsafe condition for the specified products. The MCAI states:

DGAC [Direction Générale de l'Aviation Civile] France issued AD 2003-242(B) [which corresponds to FAA AD 2004-15-07, Amendment 39-13741 (69 FR 44592, July 27, 2004)] to require an inspection programme for aeroplanes with pre- and post-Airbus modification 05106 configurations (Airbus SB A310-57-2004) in order to detect any crack located on the trailing edge of the wing bottom skin No. 2 panel of the all-speed-aileron servo control bay. A crack at this location, if not detected and corrected, would propagate towards the wing rear spar and ultimately into the wing fuel tank area. Undetected cracks would affect the structural integrity of the [left hand] LH and/or [right hand] RH wing.

Since issuance of DGAC France AD 2003-242(B) [which corresponds to FAA AD 2004-15-07, Amendment 39-13741 (69 FR 44592, July 27, 2004)], a reassessment of the previous fatigue threshold and inspection interval has been completed. As a result of the reassessment, the inspection thresholds and intervals for accomplishment of the tasks as defined in Airbus SB A310-57-2082 have been adjusted and reduced. Airbus SB A310-57-2082 Revision 03 has been published, in which the compliance time periods for these inspection thresholds and intervals have been amended.

For the reasons stated above, this [EASA] AD retains the requirements of the DGAC France AD 2003-242(B) [which corresponds to FAA AD 2004-15-07, Amendment 39-13741 (69 FR 44592, July 27, 2004)], which is superseded, and requires implementation of the amended inspection programme.

Corrective action includes doing a permanent repair (installing a repair plate and new landing plates), a temporary repair (crack-stop drilling and application of a protective coating) followed by repetitive inspections until a permanent repair is done, and a repair approved by the FAA or EASA (or its delegated agent). This AD also adds optional permanent repairs.

The initial inspection compliance times are dependent on the configuration (modification status, repair status, and crack length), and type of use (short range, long range, and normal). For airplanes without temporary repairs, the initial inspection compliance time ranges between 2,000 total flight cycles or 10,200 total flight hours, whichever occurs first; and 12,000 total flight cycles or 24,000 total flight hours, whichever occurs first. If the total flight cycles or total flight hours compliance time has been exceeded, the initial inspection compliance time (grace period) ranges between 200 flight cycles or 1,000 flight hours, to within 1,000 flight cycles or 2,800 flight hours, whichever occurs first.

For airplanes with temporary repairs, the initial inspection compliance time is dependent on crack length and ranges between 7 flight cycles or 35 flight hours, whichever occurs first, since the repair; to within 100 flight cycles or 200 flight hours, whichever occurs first, since the repair.

For airplanes with a temporary repair, the compliance time for completing the permanent repair ranges between 35 flight cycles or 175 flight hours, whichever occurs first, after completing the temporary repair; to within 500 flight cycles or 1,000 flight hours, whichever occurs first, after completing the temporary repair.

You may obtain further information by examining the MCAI in the AD docket.

Comments

We gave the public the opportunity to participate in developing this AD. We considered the comment received.

Request To Change Service Information Reference

FedEx stated that paragraph (n)(1)(iii) in the NPRM (78 FR 8054, February 5, 2013) should refer to Airbus Mandatory Service Bulletin A310-57-2082, Revision 02, dated October 17, 2008, instead of Airbus Service Bulletin A310-57-2082, dated June 11, 2002. FedEx noted that paragraph (n)(1)(i) also refers to Airbus Service Bulletin A310-57-2082, dated June 11, 2002.

We agree to change the reference, and have changed paragraph (n)(1)(iii) in this AD accordingly.

Conclusion

We reviewed the available data, including the comment received, and determined that air safety and the public interest require adopting the AD with the changes described previously—and minor editorial changes. We have determined that these changes:

• Are consistent with the intent that was proposed in the NPRM (78 FR 8054, February 5, 2013) for correcting the unsafe condition; and

• Do not add any additional burden upon the public than was already proposed in the NPRM (78 FR 8054, February 5, 2013).

Costs of Compliance

We estimate that this AD will affect about 58 products of U.S. registry.

The actions that were required by AD 2004-15-07, Amendment 39-13741 (69 FR 44592, July 27, 2004), and are retained in this AD take about 2 work-hours per product, at an average labor rate of $85 per work hour. Based on these figures, the estimated cost of the currently required actions is $170 per product.

We estimate that it will take about 4 work-hours per product to comply with the new basic requirements of this AD. The average labor rate is $85 per work-hour. Based on these figures, we estimate the cost of this AD to the U.S. operators to be $19,720, or $340 per product.

We have received no definitive data that would enable us to provide cost estimates for the on-condition actions specified in this AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-15-07, Amendment 39-13741 (69 FR 44592, July 27, 2004), and adding the following new AD:

2013-15-12 Airbus: Amendment 39-17528. Docket No. FAA-2012-1321; Directorate Identifier 2011-NM-147-AD.

(a) Effective Date

This airworthiness directive (AD) becomes effective September 20, 2013.

(b) Affected ADs

This AD supersedes AD 2004-15-07, Amendment 39-13741 (69 FR 44592, July 27, 2004).

(c) Applicability

This AD applies to Airbus Model A310-203, -204, -221, -222, -304, -322, -324, and -325 airplanes, certificated in any category, all serial numbers; except for airplanes identified in paragraphs (c)(1) and (c)(2) of this AD.

(1) Airplanes that have been modified in service according to Airbus Service Bulletin A310-57-2081 or during production by Airbus modification 12525.

(2) Airplanes that have been repaired according to Airbus Repair Inspection R573-49243 or R573-49237.

(d) Subject

Air Transport Association (ATA) of America Code 57, Wings.

(e) Reason

This AD was prompted by a reassessment of the previous fatigue threshold and inspection interval specified in AD 2004-15-07, Amendment 39-13741 (69 FR 44592, July 27, 2004), which resulted in a determination that reduced inspection thresholds and intervals for accomplishment of the tasks are necessary. We are issuing this AD to detect and correct fatigue cracking of the area around the fasteners of the landing plate of the aileron access doors and the bottom skin panel of the wings, which could result in reduced structural integrity of the wings.

(f) Compliance

You are responsible for having the actions required by this AD performed within the compliance times specified, unless the actions have already been done.

(g) Retained Repetitive Inspections for Airplanes Without Airbus Modification 5106

This paragraph restates the requirements of paragraph (a) of AD 2004-15-07, Amendment 39-13741 (69 FR 44592, July 27, 2004). For airplanes on which Airbus Modification 5106 (Airbus Service Bulletin A310-57-2004, Revision 2, dated March 5, 1990, which is not incorporated by reference in this AD) has not been done as of August 31, 2004 (the effective date of AD 2004-15-07): Within 2,000 flight cycles after August 31, 2004 (the effective date of AD 2004-15-07), or within 3,000 flight cycles after the last inspection done per paragraph (k) of AD 98-26-01, Amendment 39-10942 (63 FR 69179, December 16, 1998), whichever is first; do a high frequency eddy current (HFEC) inspection for cracking of the area around the fasteners of the landing plate of the wing bottom skin panel No. 2 of the left and right wings. Do the inspection per the Accomplishment Instructions of Airbus Service Bulletin A310-57-2082, dated June 11, 2002. If no cracking is found, repeat the inspection thereafter at intervals not to exceed 1,900 flight cycles, until accomplishment of the terminating action specified in paragraph (j) of this AD. Accomplishment of the inspection required by paragraph (k) of this AD terminates the requirements of paragraph (g) of this AD.

(h) Retained Repetitive Inspection for Airplanes With Airbus Modification 5106

This paragraph restates the requirements of paragraph (b) of AD 2004-15-07, Amendment 39-13741 (69 FR 44592, July 27, 2004). For airplanes on which Airbus Modification 5106 has been done as of August 31, 2004 (the effective date of AD 2004-15-07): Do the HFEC inspection required by paragraph (g) of this AD at the applicable time specified in paragraph (h)(1), (h)(2), (h)(3), or (h)(4) of this AD. If no cracking is found, repeat the inspection thereafter at intervals not to exceed 1,900 flight cycles, until accomplishment of the terminating action specified in paragraph (j) of this AD. Accomplishment of the inspection required by paragraph (k) of this AD terminates the requirements of paragraph (h) of this AD.

(1) For airplanes that have accumulated fewer than 17,000 total flight cycles since the date of issuance of the original Airworthiness Certificate or the date of issuance of the original Export Certificate of Airworthiness, whichever is first, as of August 31, 2004 (the effective date of AD 2004-15-07, Amendment 39-13741 (69 FR 44592, July 27, 2004)): Inspect prior to the accumulation of 18,000 total flight cycles.

(2) For airplanes that have accumulated 17,000 or more total flight cycles, but fewer than 19,001 total flight cycles since the date of issuance of the original Airworthiness Certificate or the date of issuance of the original Export Certificate of Airworthiness, whichever is first, as of August 31, 2004 (the effective date of AD 2004-15-07, Amendment 39-13741 (69 FR 44592, July 27, 2004)): Inspect within 2,000 flight cycles after August 31, 2004 (the effective date of AD 2004-15-07).

(3) For airplanes that have accumulated 19,001 or more total flight cycles, but fewer than 21,001 total flight cycles since the date of issuance of the original Airworthiness Certificate or the date of issuance of the original Export Certificate of Airworthiness, whichever is first, as of August 31, 2004 (the effective date of AD 2004-15-07, Amendment 39-13741 (69 FR 44592, July 27, 2004)): Inspect with 1,200 flight cycles after August 31, 2004 (the effective date of AD 2004-15-07).

(4) For airplanes that have accumulated 21,001 or more total flight cycles since the date of issuance of the original Airworthiness Certificate or the date of issuance of the original Export Certificate of Airworthiness, whichever is first, as of August 31, 2004 (the effective date of AD 2004-15-07, Amendment 39-13741 (69 FR 44592, July 27, 2004)): Inspect within 500 flight cycles after August 31, 2004 (the effective date of AD 2004-15-07).

(i) Retained Corrective Action

This paragraph restates the requirements of paragraph (c) of AD 2004-15-07, Amendment 39-13741 (69 FR 44592, July 27, 2004). If any cracking is found during any inspection required by paragraph (g) or (h) of this AD: Before further flight, do the actions required by either paragraph (i)(1) or (i)(2) of this AD.

(1) Do a permanent repair of the area by doing the applicable corrective actions per the Accomplishment Instructions of Airbus Service Bulletin A310-57-2082, dated June 11, 2002. Accomplishment of the permanent repair terminates the repetitive inspections required by this AD for the repaired area only.

(2) Do the terminating action specified in paragraph (j) of this AD.

(j) Retained Optional Terminating Action, With New Service Information and New Options

This paragraph restates the optional terminating action information specified in paragraph (d) of AD 2004-15-07, Amendment 39-13741 (69 FR 44592, July 27, 2004), with new service information and new options. Modification of the landing plate of the aileron access doors of the wing bottom skin panel No. 2 of the left and right wings by doing all the actions, in accordance with the Accomplishment Instructions of Airbus Service Bulletin A310-57-2081, dated June 11, 2002; or Airbus Service Bulletin A310-57-2081, Revision 03, dated October 13, 2010; or by doing the repair in accordance with Airbus Repair Instruction R573-49243, Revision C, dated July 16, 2003; or Airbus Repair Instruction R573-49237, Revision D, dated July 16, 2003; which terminates the requirements of this AD. Where Airbus Service Bulletin A310-57-2081, dated June 11, 2002; and Airbus Service Bulletin A310-57-2081, Revision 03, dated October 13, 2010; specify contacting the manufacturer for disposition of certain repair conditions that might be associated with the modification procedure, this AD requires that the repair be done in accordance with a method approved by either the Manager, International Branch, ANM-116, Transport Airplane Directorate, FAA; the Direction Générale de l'Aviation Civile (DGAC) (or its delegated agent); or the European Aviation Safety Agency (EASA) (or its delegated agent).

(k) New Inspections, Related Investigative Actions, and Corrective Actions

Except as specified in paragraph (m)(1) of this AD, at the applicable time specified in Paragraph 1.E., “Compliance,” of Airbus Mandatory Service Bulletin A310-57-2082, Revision 03, dated November 15, 2010: Do an HFEC inspection to detect cracking of the area around the fasteners of the landing plate of the wing bottom skin panel No. 2 of the left and right wings; and do all applicable corrective actions; in accordance with the Accomplishment Instructions of Airbus Mandatory Service Bulletin A310-57-2082, Revision 03, dated November 15, 2010, except as required by paragraph (m)(2) of this AD. Do all applicable corrective actions before further flight. Repeat the inspection of the area around the fasteners of the landing plate of the wing bottom skin panel number 2 of the left and right wings thereafter at the applicable intervals, including the compliance times for post temporary repair inspections, specified in Paragraph 1.E., “Compliance,” of Airbus Mandatory Service Bulletin A310-57-2082, Revision 03, dated November 15, 2010, except as specified in paragraph (m)(3) of this AD. The temporary repair of cracks, as identified in Airbus Mandatory Service Bulletin A310-57-2082, Revision 03, dated November 15, 2010, does not constitute terminating action for the repetitive inspections required by this AD. Accomplishment of the inspection required by this paragraph terminates the requirements of paragraphs (g) and (h) of this AD. Doing the modification specified in paragraph (j) of this AD terminates the repetitive inspections required by this paragraph.

(l) New Permanent Repair

For airplanes on which the temporary repair as specified in Airbus Mandatory Service Bulletin A310-57-2082 has been done: Within the applicable time specified in Paragraph 1.E., “Compliance,” of Airbus Mandatory Service Bulletin A310-57-2082, Revision 03, dated November 15, 2010, do the permanent repair, in accordance with the Accomplishment Instructions of Airbus Mandatory Service Bulletin A310-57-2082, Revision 03, dated November 15, 2010, except as provided by paragraph (m)(2) of this AD.

(m) New Exceptions to Service Information

(1) Where Paragraph 1.E., “Compliance,” of Airbus Mandatory Service Bulletin A310-57-2082, Revision 03, dated November 15, 2010, specifies a compliance time “from receipt of this service bulletin,” this AD requires compliance within the specified compliance time after the effective date of this AD.

(2) Where Airbus Mandatory Service Bulletin A310-57-2082, Revision 03, dated November 15, 2010, specifies to contact Airbus for repair: Before further flight, repair the crack using a method approved by either the Manager, International Branch, ANM-116; or EASA (or its delegated agent).

(3) Where Paragraph 1.E., “Compliance,” of Airbus Mandatory Service Bulletin A310-57-2082, Revision 03, dated November 15, 2010, specifies to contact Airbus for inspection intervals, this AD requires using an inspection interval approved by either the Manager, International Branch, ANM-116; or EASA (or its delegated agent).

(n) Credit for Previous Actions

(1) This paragraph provides credit for the actions required by paragraphs (k) and (l) of this AD, if those actions were performed before the effective date of this AD using the service information specified in paragraph (n)(1)(i), (n)(1)(ii), or (n)(1)(iii) of this AD.

(i) Airbus Service Bulletin A310-57-2082, dated June 11, 2002.

(ii) Airbus Service Bulletin A310-57-2082, Revision 01, dated August 22, 2003, which is not incorporated by reference in this AD.

(iii) Airbus Mandatory Service Bulletin A310-57-2082, Revision 02, dated October 17, 2008, which is not incorporated by reference in this AD.

(2) This paragraph provides credit for the modification of the landing plate of the aileron access doors of the wing bottom skin panel No. 2 of the left and right wings required by paragraph (j) of this AD, if those actions were performed before the effective date of this AD using the service information specified in paragraph (n)(2)(i) or (n)(2)(ii) of this AD (which is not incorporated by reference in this AD), except where this service information specifies contacting the manufacturer for disposition of certain repair conditions that might be associated with the modification procedure, this AD requires that the repair be done in accordance with a method approved by either the Manager, International Branch, ANM-116; or the EASA (or its delegated agent).

(i) Airbus Service Bulletin A310-57-2081, Revision 01, dated February 26, 2003, which is not incorporated by reference in this AD.

(ii) Airbus Service Bulletin A310-57-2081, Revision 02, dated October 18, 2007, which is not incorporated by reference in this AD.

(o) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Previously Approved AMOCS: AMOCs approved previously in accordance with AD 2004-15-07, Amendment 39-13741 (69 FR 44592, July 27, 2004), are approved as AMOCs for the corresponding provisions of this AD.

(p) Related Information

(1) Refer to MCAI EASA Airworthiness Directive 2011-0125, dated June 30, 2011, for related information.

(2) Service information identified in this AD that is not incorporated by reference may be obtained at the address specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 20, 2013.

(i) Airbus Mandatory Service Bulletin A310-57-2082, Revision 03, dated November 15, 2010.

(ii) Airbus Repair Instruction R573-49237, Revision D, dated July 16, 2003.

(iii) Airbus Repair Instruction R573-49243, Revision C, dated July 16, 2003.

(iv) Airbus Service Bulletin A310-57-2081, Revision 03, dated October 13, 2010.

(4) The following service information was approved for IBR on August 31, 2004 (69 FR 44592, July 27, 2004).

(i) Airbus Service Bulletin A310-57-2081, dated June 11, 2002.

(ii) Airbus Service Bulletin A310-57-2082, dated June 11, 2002.

(5) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 22, 2013.
Stephen P. Boyd,
Acting Manager, Transport Airplane Directorate, Aircraft Certification Service.

[FR Doc. 2013-19862 Filed 8-15-13; 8:45 am]

BILLING CODE 4910-13-P